DEPARTMENT OF COMMERCE

Foreign-Trade Zones Board

[Order No. 2030]

Reorganization of Foreign-Trade Zone 283 (Expansion of Service Area) Under Alternative Site Framework; West Tennessee Area

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Northwest Tennessee Regional Port Authority, grantee of Foreign-Trade Zone 283, submitted an application to the Board (FTZ Docket B-53-2016, docketed August 11, 2016) for authority to expand the service area of the zone to include the Counties of Fayette, Hardeman and McNairy as described in the application, adjacent to the Memphis Customs and Border Protection port of entry;

Whereas, notice inviting public comment was given in the Federal Register (81 FR 54555, August 16, 2016) and the application has been processed pursuant to the FTZ Act and the Board's regulations; and,

Whereas, the Board adopts the findings and recommendations of the examiner's report, and finds that the requirements of the FTZ Act and the Board's regulations are satisfied;

Now, therefore, the Board hereby orders:

The application to reorganize FTZ 283 to expand the service area under the ASF is approved, subject to the FTZ Act and the Board's regulations, including Section 400.13, and to the Board's standard 2,000-acre activation limit for the zone.

Dated: March 1, 2017.
Ronald K. Lorentzen,
Acting Assistant Secretary of Commerce for Enforcement and Compliance, Alternate Chairman, Foreign-Trade Zones Board.

[FR Doc. 2017-04911 Filed 3-13-17; 8:45 am]

BILLING CODE 3510-DS-P